DEPARTMENT OF THE INTERIOR

National Park Service

National Register of Historic Places; Notification of Pending Nominations

Nominations for the following properties being considered for listing in the National Register were received by the National Park Service before July 27, 2002. Pursuant to § 60.13 of 36 CFR Part 60 written comments concerning the significance of these properties under the National Register criteria for evaluation may be forwarded by United States Postal Service, to the National Register Historic Places, National Park Service, 1849 C St. NW, NC400, Washington, DC 20240; by all other carriers, National Register of Historic Places, National Park Service, 800 N. Capitol St., NW, Suite 400, Washington DC 20002; or by fax, 202-343-1836. Written or faxed comments should be submitted by August 27, 2002.

Carol D. Shull,
Keeper of the National Register of Historic Places.

Connecticut

Litchfield County

Migeon Avenue Historic District, Roughly along Migeon Ave. and parts of Forest St., Torrington, 02000913

Skee's Diner, 589 Main St., Torrington, 02000912

Kentucky

Barren County:

Glasgow OMS #9, (Kentucky's National Guard Facilities MPS) Cavalry Dr., Glasgow, 02000922

Boyd County:

Ashland Armory, (Kentucky's National Guard Facilities MPS) 2519 Lexington Ave., Ashland, 02000920

Daviess County:

Owensboro Armory, (Kentucky's National Guard Facilities MPS) 1501 Parrish Ave., Owensboro, 02000919

Fayette County:

Woolworth, F.W., Building, 106 Main St., Lexington, 02000924

Franklin County:

Berry, George F., House, 700 Louisville Rd.,

Frankfort, 02000915 Frankfort Storage Building—Armory, (Kentucky's National Guard Facilities MPS) 208 Maryland Ave., Frankfort, 02000929

Hardin County:

Elizabethtown Armory, (Kentucky's National Guard Facilities MPS) 205 Warfield St., Elizabethtown, 02000921

Harrison County:

Second Battle of Cynthiana Battlefield, 1 mi. N of Cynthiana, E of KY 36, Cynthiana, 02000914

Henderson County:

Henderson Armory, (Kentucky's National Guard Facilities MPS) 735 N. Elm St., Henderson, 02000928

Hopkins County:

Madisonville Armory, (Kentucky's National Guard Facilities MPS) 670 Park Ave., Madisonville, 02000927

Jefferson County:

Masonic Widows and Orphans Home, 3701 Frankfort Ave., Louisville, 02000916

Kenton County:

Erlanger Proper Subdivision Historic District, (Erlanger, Kenton County:, Kentucky MPS) Roughly bounded by Hulbert, Division, Crescent, Dixie, and Graves., Erlanger, 02000918

Pike County:

Fordson Coal Company Buildings, 1355, 1377, and 1393 Pond Creek Rd., Stone, 02000917

Pulaski County:

Somerset Armory, (Kentucky's National Guard Facilities MPS) 109 Grand Ave., Somerset, 02000926

Scott County:

Scott County: Jail Complex, 117 N. Water St., Georgetown, 02000923

Warren County:

Bowling Green OMS #10, (Kentucky's National Guard Facilities MPS) 719 Old Morgantown Rd., Bowling Green, 02000925

Whitley County:

Williamsburg Ave. (Kentucky's National Guard Facilities MPS), S. Second St., Williamsburg, 02000930

Maryland

Nicollet County:

Nicollet County Courthouse and Jail, 501 S, Minnesota Ave., St. Peter, 02000939

Minnesota

Marshall County:

Taralseth, K.J., Company, 427 N. Main St., Warren, 02000938

Pine County:

Hinckley State Line Marker (Federal Relief Construction in Minnesota MPS AD), MN 48, Ogema, 02000935

Roseau County:

Lodge Boleslav Jablonsky No. 219, 30033 110th St., Poplar Grove, 02000936

St. Louis County:

Church of St. Joseph (Catholic), 7897 Elmer Rd., Elmer, 02000940

Lester River Bridge—Bridge No. 5772 (Reinforced-Concrete Highway Bridges in Minnesota MPS), London Rd. over the Lester R., Duluth, 02000934

Orr Roadside Parking Area (Federal Relief Construction in Minnesota MPS AD), MN 53 at First Ave., Orr, 02000937

North Carolina

Henderson County:

Stillwell, Erle, House II, 541 Blythe St., Hendersonville, 02000933

Iredell County:

Mitchell College Historic District (Boundary Increase, Roughly bounded by Mulberry, Race, Cherry, Oak and Alexander Sts., Statesville, 02000932

Lee County:

Lee Avenue Historic District (Lee County: MPS), Roughly along Lee Avenue, W. Main St., S. Academy St., and W. Raleigh St., Sanford, 02000944

Nash County:

Villa Place Historic District (Boundary Increase), Roughly along Chester St., Tillery St., NC 64, and Pearl St., Rocky Mount, 02000942

West Have Historic District, Roughly bounded by Lafayetter and Pinecrest Aves., and the Tar River, Rocky Mount, 02000931

Stokes County:

King Historic District, Dalton Rd., Main St., School St. and Railroad Right of Way, King, 02000941

Leak—Chaffin-Browder House, NC 8, 0.1 mi. S of jct. with NC 1941, Germantown, 02000943

Transylvania County:

Main Street Historic District (Transylvania County: MPS), Roughly bounded by Gaston St., England St., Probart St., and Jordan St., Brevard, 02000945

Wake County:

Depot Historic District, Bounded by W. Hargett, S. McDowell, S. Dawson, and W. Cabarrus St., Raleigh, 02000946

Ohio

Summit County:

Porter-Aue House (Canal, Railroad, and Industrial Resources of the Village of Clinton/Warwick, Ohio MPS), 2798 North Street, Clinton, 02000947

Oregon

Malheur County:

Vale Drug Store, 158 Main St. N, Vale, 02000950

Marion County:

Brown, Charles and Martha, House, 425 N. First Ave., Stayton, 02000949

Multnomah County:

Tannler—Armstrong House, 4420 NE Alameda, Portland, 02000948

Pennsylvania

Pike County:

Milford Historic District (Boundary Increase), Roughly encompassing the gridded portion of Milford, Milford, 02000951

Rhode Island

Providence County:

Exchange Street Historic District, Roughly along Exchange, Front and Fountain Sts., Pawtucket, 02000952

Vermont

Windsor County:

Fessenden, Joseph, House, 58 Bridge St., Royalton, 02000953

A request for REMOVAL has been made for the following resource:

Wisconsin

Milwaukee County:

Milwaukee County: Home for Dependent Children School, 9658 Watertown Plank Rd., Wauwatosa, 98001535

[FR Doc. 02-20376 Filed 8-9-02; 8:45 am]

BILLING CODE 4310-70-P